SOCIAL SECURITY ADMINISTRATION

Privacy Act of 1974; as Amended; New System of Records and New Routine Use Disclosures

AGENCY: Social Security Administration (SSA).

ACTION: New system of records and proposed routine uses.

SUMMARY: In accordance with the Privacy Act (5 U.S.C. 552a(e)(4) and (e)(11) we are issuing public notice of our intent to establish a system of records entitled the SSA Mass Transportation Subsidy Program System, together with routine uses applicable to this system of records. We are also issuing notice that we may disclose personally identifiable information to consumer reporting agencies in accordance with (5 U.S.C. 552a(b)(12)) and 31 U.S.C. 3711(e).

The proposed system of records will consist of information collected by SSA for use in administering the Mass Transportation Subsidy Program established pursuant to 5 U.S.C. 7905, 26 U.S.C. 132(f), and Executive Order 13150, dated April 21, 2000. The proposed system of records is entitled the SSA Mass Transportation Subsidy Program System. We invite public comment on this proposal.

DATES: We filed a report of the proposed system of records and routine uses with the Chairman of the Senate Committee on Governmental Affairs, the Chairman of the House Reform Committee, and the Director, Office of Information and Regulatory Affairs, Office of Management and Budget (OMB) on June 26, 2002.

ADDRESSES: Interested individuals may comment on this publication by writing to the SSA Privacy Officer, Social Security Administration, 3-A-6 Operations Building, 6401 Security Boulevard, Baltimore, Maryland 21235-6401. All comments received will be available for public inspection at the above address.

FOR FURTHER INFORMATION CONTACT: Ms. Pamela McLaughlin, Social Insurance Specialist, Social Security Administration, Room 3-C-2 Operations Building, 6401 Security Boulevard, Baltimore, Maryland 21235-6401, telephone: (410) 965-3677, e:mail: pam.mclaughlin@ssa.gov.

SUPPLEMENTARY INFORMATION:

I. Background and Purpose of the Proposed New System of Records, the SSA Mass Transportation Subsidy Program System, 60-0305

A. General Background

Pursuant to the authority provided under 5 U.S.C. 7905, SSA has established a mass transportation subsidy program to encourage its employees to use means other than single-occupancy motor vehicles to commute to and from work. This program involves the distribution of transit passes by SSA to qualified employees for use in commuting to and/or from work by means of mass transit facilities and/or commuter highway vehicles. SSA will purchase transit passes with Agency-provided funds. The value of the transit passes received by those employees participating in the program is excluded from their gross income as qualified transportation fringe benefits pursuant to 26 U.S.C. 132(f).

B. Collection and Maintenance of the Data for the Proposed New System of Records, the SSA Mass Transportation Subsidy Program System

SSA must collect and maintain relevant information about SSA employees who are applicants for or participants in SSA's Mass Transportation Subsidy Program. This information will be maintained in the SSA Mass Transportation Subsidy Program System database and in manual files. The information maintained will include copies of applications and certifications; distribution lists; correspondence with applicants/participants; and administrative reports. The information maintained will also include identifying information of the participants/applicants such as: names, SSN, office addresses, office telephone numbers, bargaining unit status, transit providers and monthly transportation costs, and names, office addresses and office telephone numbers of supervisors. SSA will use the information in the proposed system to administer the SSA Mass Transportation Subsidy Program. Specifically, the information will assist SSA in managing and verifying the scheduling and distribution of transportation subsidies and the accounting of funds expended under the SSA Mass Transportation Subsidy Program. We will retrieve information from the proposed system of records by using the participants'/applicants' SSNs. This information constitutes a system of records under the Privacy Act.

II. Proposed Routine Use Disclosures of Data Maintained in the Proposed System of Records, the SSA Mass Transportation Subsidy Program System

A. Proposed Routine Use Disclosures

We are proposing to establish routine uses of information that will be maintained in the proposed new system as discussed below.

1. To the Office of the President for the purpose of responding to an individual pursuant to an inquiry received from that individual or from a third party on his or her behalf.

We will disclose information under this routine use only in situations in which an individual may contact the Office of the President, seeking that Office's assistance in a matter relating to his or her participation in the SSA Mass Transportation Subsidy Program. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to his or her participation in the SSA Mass Transportation Subsidy Program. Information will be disclosed when the congressional representative makes an inquiry and indicates that he or she is acting on behalf of the individual whose record is requested.

3. To the Department of Transportation (DOT) so that it may correctly purchase and distribute transit passes to employees; verify employee eligibility and participation in the program, and account to SSA for funds expended in administering SSA's Mass Transportation Subsidy Program.

We will disclose information under this routine use, as necessary, to enable the Department of Transportation to accurately purchase and distribute transit passes to eligible SSA employees.

4. To a Federal agency for the purpose of responding to surveys and preparing reports on mass transportation subsidy programs, including compliance with applicable laws and executive orders relating to such programs.

We will disclose information under this routine use, as necessary, to a Federal agency in response to a survey or a request for information required to prepare a report. For example, we will disclose information to the Department of Treasury, the Department of Transportation, the Environmental Protection Agency, the Office of Personnel Management, the General Services Administration, and the Office of Management and Budget responsible under Executive Order 13150 for analysis of program effectiveness in reducing single occupancy vehicle travel and local area traffic congestion.

5. To the Internal Revenue Service (IRS) and to State and local government tax agencies in response to inquiries regarding an employee's receipt of qualified transportation fringe benefits.

We will disclose information under this routine use to the IRS and to State and local government tax agencies, as necessary, information regarding the value of the transit subsidy received by employees, the time frames in which transit subsidies were received and the type of transit subsidy issued, i.e., vouchers, passes, cash reimbursement or other fare media, as well as any other relevant and necessary information regarding an employee's receipt of qualified transportation fringe benefits.

6. To the Department of Justice (DOJ), a court, or other tribunal, or other party before such tribunal when:

(a) SSA, or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components

is party to litigation or has an interest in such litigation, and SSA determines that the use of such records by DOJ, a court, or other tribunal is relevant and necessary to the litigation, provided, however, that in each case, SSA determines that such disclosure is compatible with the purpose for which the records were collected.

Wage and other information which are subject to disclosure provisions of the Internal Revenue Code (IRC) (26 U.S.C. 6103) will not be disclosed under this routine use unless disclosure is expressly permitted by the IRC.

We will disclose information under this routine use only as necessary to enable DOJ, a court, or other tribunal, to effectively defend SSA, its components or employees in litigation involving the proposed system of records.

7. To other Federal agencies having the power to subpoena records, for example, the Internal Revenue Service (IRS) or the Civil Rights Commission, in response to a subpoena for information contained in this system of records.

We will disclose information under this routine use, as necessary, when a Federal agency with subpoena power, such as the IRS or the Civil Rights Commission, exercises its right to subpoena records from this system as part of a case that involves the Agency's Mass Transportation Subsidy Program and the administration of qualified transportation fringe benefits to eligible employees.

8. To the Equal Employment Opportunity Commission (EEOC) when requested in connection with investigations into alleged or possible discriminatory practices in the Federal sector, examination of Federal affirmative employment programs, compliance by Federal agencies with the Uniform Guidelines on Employee Selection Procedures, or other functions vested in the Commission.

We will disclose information to the EEOC to assist in investigations into alleged or possible discriminatory practices in the administration of the SSA Mass Transportation Subsidy Program.

9. To the Federal Labor Relations Authority, the General Counsel, the Federal Mediation and Conciliation Service, the Federal Service Impasses Panel, or an arbitrator when information is requested in connection with investigations of allegations of unfair practices, matters before an arbitrator or the Federal Impasses Panel.

We will disclose information under this routine use, as necessary, to the Federal Labor Relations Authority, the General Counsel, the Federal Mediation and Conciliation Service, the Federal Service Impasses Panel, or an arbitrator in which all or part of the allegations involve the Agency's administration of the SSA Mass Transportation Subsidy Program.

10. To student volunteers, individual's working under a personal services contract, and other individuals performing functions for SSA but technically not having the status of agency employees, if they need access to the records in order to perform their assigned agency functions.

We contemplate disclosing information under this routine use only when SSA uses the services of these individuals, and they need access to information in this system to perform their assigned duties.

11. Non-tax return information which is not restricted from disclosure by federal law may be disclosed to the General Services Administration (GSA) and the National Archives and Records Administration (NARA) under 44 U.S.C. 2904 and 2906, as amended by NARA Act of 1984, for the use of those agencies in conducting records management studies.

The Administrator of GSA and the Archivist of NARA are charged by 44 U.S.C. § 2904 with promulgating standards, procedures and guidelines regarding record management and conducting records management studies. Section 2906 of that law, also amended by the NARA Act of 1984, provides that GSA and NARA are to have access to federal agencies' records and that agencies are to cooperate with GSA and NARA. In carrying out these responsibilities, it may be necessary for GSA and NARA to have access to this proposed system of records. In such instances, the routine use will facilitate disclosure.

B. Compatibility of Proposed Routine Uses

The Privacy Act (5 U.S.C. 552a(b)(3)) and our disclosure regulations (20 CFR part 401) permit us to disclose information under a published routine use for a purpose that is compatible with the purpose for which we collected the information. Section 401.150(c) of SSA Regulations at 20 CFR permits us to disclose information under a routine use where necessary to carry out SSA programs. Section 401.120 of SSA Regulations provides that we will disclose information when a law specifically requires the disclosure. The proposed routine uses numbered 1 through 10 above, will ensure efficient administration of the SSA Mass Transportation Subsidy Program; the disclosure that would be made under routine use number 11 is required by Federal law. Thus, all of the routine uses are appropriate and meet the relevant statutory and regulatory criteria.

III. Disclosure to Consumer Reporting Agencies

The Privacy Act of 1974, as amended (5 U.S.C. 552a(b)(12)) permits Federal agencies to disclose certain information to consumer reporting agencies in accordance with 31 U.S.C. 3711(e) without the consent of the individuals to whom the information pertains. The purpose of this disclosure is to provide an incentive for individuals to pay any outstanding debts they owe to the Federal government by including information about these debts in the records relating to those persons maintained by consumer reporting agencies. This is a practice commonly used by the private sector. The information disclosed will be limited to that which is needed to establish the identity of the individual debtor, the amount, status, and history of the debt, and the agency or program under which the debt arose.

We have added the following statement at the end of the routine uses section of the proposed system of records:

Disclosure pursuant to 5 U.S.C. 552a(b)(12) may be made to consumer reporting agencies as defined in the Fair Credit Reporting Act (15 U.S.C. 1681a(f)) or the Federal Claims Collection Act of 1966 (31 U.S.C. 3701, et. Seq.) as amended. The disclosure will be made in accordance with 31 U.S.C. 3711(e) when authorized by sections 204(f), 808(e), or 1631(b)(4) of the Social Security Act (42 U.S.C. 404(f), 1008(e), or 1383(b)(4)). The purpose of this disclosure is to aid in the collection of outstanding debts owed to the Federal government, typically, to provide an incentive for debtors to repay delinquent Federal government debts by making these debts part of their credit records. The information to be disclosed is limited to the individual's name, address, SSN, and other information necessary to establish the individual's identity, the amount, status, and history of the debt and the agency or program under which the debt arose.

IV. Records Storage Medium and Safeguards for the Proposed New System, the SSA Mass Transportation Subsidy Program System

We will maintain information about SSA's Mass Transportation Subsidy Program System in electronic and paper form. Only authorized SSA personnel who have a need for the information in the performance of their official duties will be permitted access to the information. We will safeguard the security of the information by requiring the use of access codes to enter the computer systems that will maintain the data and will store computerized records in secured areas that are accessible only to employees who require the information to perform their official duties. Any manually maintained records will be kept in locked cabinets or in otherwise secure areas.

Contractor personnel having access to data in the proposed system of records along with contractor personnel involved in the evaluation of SSA's Mass Transportation Subsidy Program System will be required to adhere to SSA rules concerning safeguards, access and use of the data.

SSA personnel having access to the data on this system will be informed of the criminal penalties of the Privacy Act for unauthorized access to or disclosure of information maintained in this system. See 5 U.S.C. 552a(i)(1).

V. Effect of the Proposed New System of Records, the SSA Mass Transportation Subsidy Program System on the Rights of Individuals

The proposed new system of records will maintain only that information that is necessary for the efficient and effective administration and evaluation of SSA's Mass Transportation Subsidy Program. There are existing security standards that protect access to and preclude unauthorized disclosure of records in the proposed system of records. Therefore, we do not anticipate that the proposed system of records will have an unwarranted adverse effect on the rights of individuals.

Dated: June 26, 2002.
Jo Anne B. Barnhart,
Commissioner.

60-0305

System name:

SSA Mass Transportation Subsidy Program System/Social Security Administration/Office of Personnel.

Security classification:

None.

System location:

Social Security Administration, Office of Human Resources, Office of Personnel, 6401 Security Boulevard, Baltimore, Maryland 21235, and SSA Regional Offices, Centers for Human Resources (SSA Headquarters).

Social Security Administration, Boston Regional Office, J.F.K. Federal Building, Room 1900, Boston, Massachusetts 02203.

Social Security Administration, New York Regional Office, Room 40-102, 26 Federal Plaza, New York, NY 10278.

Social Security Administration, Philadelphia Regional Office, 300 Spring Garden Street, Philadelphia, Pennsylvania 19123.

Social Security Administration, Atlanta Regional Office, 61 Forsyth Street, SW., Suite 22T64, Atlanta, Georgia 30303-8907.

Social Security Administration, Chicago Regional Office, Harold Washington Social Security Center, P.O. Box 8280, 10th Floor, Chicago, Illinois 60680-8280.

Social Security Administration, Dallas Regional Office, 1301 Young Street, Suite 500, Dallas, Texas 75202-5433.

Social Security Administration, Kansas City Regional Office, Richard Bolling Federal Building, Room 436, 601 East 12th Street, Kansas City, Missouri 64106.

Social Security Administration, Denver Regional Office, Federal Office Building, 1961 Stout Street, Room 325, Denver, Colorado 80294.

Social Security Administration, San Francisco Regional Office, Frank Hagel Federal Building, P.O. Box 4200, Richmond, California 94801.

Social Security Administration, Seattle Regional Office, 701 Fifth Avenue, Suite 2900, M/S 301, Seattle, Washington 98104-7075.

Social Security Administration, Office of Central Operations, Center for Management Support, 1500 Woodlawn Drive, Room 7030 Security West Tower, Baltimore, Maryland 21241-1500.

Categories of individuals covered by the system:

This system covers SSA employees who are applicants for or participants in SSA's Mass Transportation Subsidy Program.

Categories of records in the system:

Records in the system include any paper and electronic records required by SSA to administer the mass transportation subsidy program in accordance with legal requirements. Paper records may include: copies of applications and certifications; distribution lists; correspondence to applicants/participants; and administrative reports. Electronic records may include data from the employee applications and may contain information reflecting: the distribution of transit passes and authorized cash reimbursements to program participants; names, office addresses, telephone and fax numbers for Local Transit Coordinators; the frequency of transit benefit distributions; transit benefit amounts received by participants during distributions; and the form and method by which transit passes are issued to program participants. Paper and electronic records may include information related to program applicants/participants such as: names; Social Security numbers; office addresses; office telephone numbers; bargaining unit status; transit providers and monthly transportation costs; and names, office addresses and office telephone numbers of supervisors.

Authority for maintenance of the system:

5 U.S.C. 7905, 26 U.S.C. 132(f), and Executive Order 13150.

Purpose(s):

Information in the system will be used to administer the SSA Mass Transportation Subsidy Program. Specifically, the information will assist SSA in managing and verifying the scheduling and distribution of transportation subsidies, in accounting for funds expended under the SSA Mass Transportation Subsidy Program, and in ensuring the integrity of the program.

Routine uses of records maintained in the system, including categories of users and the purposes of such uses:

Disclosures may be made for routine uses as indicated below. However, disclosure of any information constituting “return or return information” within the scope of the Internal Revenue Code (IRC) (26 U.S.C. 6103) will not be disclosed unless disclosure is authorized by that statute.

1. To the Office of the President for the purpose of responding to an individual pursuant to an inquiry received from that individual or from a third party on his or her behalf.

2. To a congressional office in response to an inquiry from that office made at the request of the subject of a record.

3. To the Department of Transportation (DOT), so that it may correctly purchase and distribute transit passes to employees; verify employee eligibility and participation in the program, and account to SSA for funds expended in administering SSA's Mass Transportation Subsidy Program.

4. To a Federal agency for the purpose of responding to surveys and preparing reports on mass transportation subsidy programs, including compliance with applicable laws and executive orders relating to such programs.

5. To the Internal Revenue Service (IRS) and to State and local government tax agencies in response to inquiries regarding an employee's receipt of qualified transportation fringe benefits.

6. To the Department of Justice (DOJ), a court, or other tribunal, or other party before such tribunal when:

(a) SSA, or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components is a party to litigation or has an interest in such litigation, and SSA determines that the use of such records by DOJ, a court, or other tribunal is relevant and necessary to the litigation, provided, however, that in each case, SSA determines that such disclosure is compatible with the purpose for which the records were collected.

Wage and other information which are subject to disclosure provisions of the IRC (26 U.S.C. 6103) will not be disclosed under this routine use unless disclosure is expressly permitted by the IRC.

7. To other Federal agencies having the power to subpoena records, for example, the Internal Revenue Service (IRS) or the Civil Rights Commission, in response to a subpoena for information contained in this system of records.

8. To the Equal Employment Opportunity Commission (EEOC) when requested in connection with investigations into alleged or possible discriminatory practices in the Federal sector, examination of Federal affirmative employment programs, compliance by Federal agencies with the Uniform Guidelines on Employee Selection Procedures, or other functions vested in the Commission.

9. To the Federal Labor Relations Authority, the General Counsel, the Federal Mediation and Conciliation Service, the Federal Service Impasses Panel, or an arbitrator when information is requested in connection with investigations of allegations of unfair practices, matters before an arbitrator or the Federal Service Impasses Panel.

10. To student volunteers, individuals working under a personal services contract, and other individuals performing functions for SSA but technically not having the status of agency employees, if they need access to the records in order to perform their assigned agency functions.

11. Non-tax return information which is not restricted from disclosure by federal law may be disclosed to the General Services Administration (GSA) and the National Archives and Records Administration (NARA) under 44 U.S.C. 2904 and 2906, as amended by NARA Act of 1984, for the use of those agencies in conducting records management studies.

Disclosure to Consumer Reporting Agencies:

Disclosure pursuant to 5 U.S.C. 552a(b)(12) may be made to consumer reporting agencies as defined in the Fair Credit Reporting Act (15 U.S.C. 1681a(f)) or the Federal Claims Collection Act of 1966 (31 U.S.C. 3701, et seq.) as amended. The disclosure will be made in accordance with 31 U.S.C. 3711(e) when authorized by sections 204(f), 808(e), or 1631(b)(4) of the Social Security Act (42 U.S.C. 404(f), 1008(e), or 1383(b)(4)). The purpose of this disclosure is to aid in the collection of outstanding debts owed to the Federal government, typically, to provide an incentive for debtors to repay delinquent Federal government debts by making these debts part of their credit records. The information to be disclosed is limited to the individual's name, address, SSN, and other information necessary to establish the individual's identity, the amount, status, and history of the debt and the agency or program under which the debt arose.

Policies and practices for storing, retrieving, accessing, retaining and disposing of records in the system:

Storage:

Records are maintained in both electronic and paper form at the system locations identified above.

Retrievability:

Records are retrieved by employee name and/or SSN.

Safeguards:

Only authorized personnel who have a need for the information in the performance of official duties will be permitted access to the information in this system of records.

Retention and disposal:

Records in this system are retained for three years at which time they are destroyed. The means of disposal will be appropriate to the storage medium (e.g., deletion of individual electronic records or shredding of paper records).

System manager(s) and address(es):

For Paper Files—In Headquarters: Associate Commissioner, Office of Personnel, Office of Human Resources, Social Security Administration, 6401 Security Boulevard, Baltimore, Maryland 21235. In the Field: Center for Human Resources, Office of the Regional Commissioner (see systems location above for addresses). For Electronic Records: Associate Commissioner, Office of Personnel, Office of Human Resources, Social Security Administration, 6401 Security Boulevard, Baltimore, Maryland 21235

Notification procedure(s):

An individual can determine if this system contains a record about him/her by writing to the systems manager(s) at the above address and providing his/her name, SSN or other information that may be in the system of records that will identify him/her. An individual requesting notification of records in person should provide the same information, as well as provide an identity document, preferably with a photograph, such as a driver's license. If an individual does not have identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record access procedure(s):

Same as “Notification” procedures. Requesters also should reasonably specify the record contents they are seeking. These procedures are in accordance with SSA Regulations (20 CFR 401.50).

Contesting record procedure(s):

Same as “Notification” procedures. Requesters also should reasonably identify the record, specify the information they are contesting, and state the corrective action sought and the reasons for the correction with supporting justification showing how the record is untimely, incomplete, inaccurate or irrelevant. These procedures are in accordance with SSA Regulations (20 CFR 401.65).

Record source categories:

Information in this system of records is: (1) Supplied directly by the individual; (2) supplied by the Department of Transportation; or (3) supplied by SSA officials.

Systems exempted from certain provisions of the Privacy Act:

None.

[FR Doc. 02-16685 Filed 7-2-02; 8:45 am]

BILLING CODE 4191-02-P